DEPARTMENT OF THE INTERIOR

Fish and Wildlife Service

[FWS-R5-NWRS-2022-N076; FXRS12610500000/FF05RLNP00/223; OMB Control Number 1018-New]

Agency Information Collection Activities; Submission to the Office of Management and Budget for Review and Approval; Lenape National Wildlife Refuge Complex Mentored Hunt Application

AGENCY: Fish and Wildlife Service, Interior.

ACTION: Notice of information collection; request for comment.

SUMMARY: In accordance with the Paperwork Reduction Act of 1995, we, the U.S. Fish and Wildlife Service (Service), are proposing a new information collection in use without an Office of Management and Budget (OMB) control number.

DATES: Interested persons are invited to submit comments on or before March 13, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-Lenape NWR” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On September 23, 2022, we published in the Federal Register (87 FR 58129) a notice of our intent to request that OMB approve this information collection. In that notice, we solicited comments for 60 days, ending on November 22, 2022. In an effort to increase public awareness of, and participation in, our public commenting processes associated with information collection requests, the Service also published the Federal Register notice on Regulations.gov (Docket FWS-R5-NWRS-2022-0114) to provide the public with an additional method to submit comments (in addition to the typical Info_Coll@fws.gov email and U.S. mail submission methods). We received four comments in response to that notice. None of the comments addressed the information collection requirements; therefore, no response is required.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Service enters into agreements and partnerships with nonprofit groups to facilitate and formalize collaboration between parties in support of mutual goals and objectives, as authorized by:

• The Fish and Wildlife Act of 1956 (16 U.S.C. 742a-742j);

• The National Wildlife Refuge System Administration Act of 1966 (16 U.S.C. 668dd-ee), as amended;

• The Refuge Recreation Act of 1962 (16 U.S.C. 460k et seq.), as amended;

• The Fish and Wildlife Coordination Act of 1934 (16 U.S.C. 661-667e), as amended; and

• The National Wildlife Refuge System Volunteer and Community Partnership Enhancement Act of 1998 (16 U.S.C. 742f), as amended.

Since 2014, the Lenape National Wildlife Refuge Complex, in partnership with the New Jersey Chapters of the National Wild Turkey Federation (NWTF), jointly administers mentored hunts on an annual basis. The mentored hunts occur on refuge property, and many of the mentors come from NWTF. The partnership provides would-be hunters with an opportunity to experience hunting by learning from Service staff and our partners through a mentored hunt program. The program not only provides the necessary hunting experience, but it also teaches the hunters about a variety of hunting topics, from ethics to shooting proficiency to wildlife ecology.

The program provides a great introduction to the rules and regulations that govern access, which can be a little overwhelming to new hunters. The Service's partnership with the NWTF helps new hunters to better understand access, rules, regulations, and setting up on public land. The program provides applicants with an opportunity to start a new family tradition, harvest their own food in a sustainable manner, or enjoy the outdoors in a new manner. All of these activities are safe, inclusive, and fun ways for people to enjoy their public lands.

The New Jersey Chapter of the NWTF solicits and registers participants via the Mentored Hunt Application (the application does not have a Service form number, as it is managed by the NWTF). The Service requires all participants to sign the Service's “USFWS Release and Waiver of Liability,” as well as Form 3-2260, “Agreement for Use of Likeness in Audio/Visual Products,” when they are on the Refuge. The application collects the following information:

• Basic contact information, to include name, address, phone number, and email address;

• Age at time of hunt;

• Customer Identification number (CID);

• Emergency contact (name and phone number);

• Applicant hunting history, such as:

—Whether applicant has completed a basic hunter education course;

—Whether applicant has purchased a hunting license and, if yes, when;

—Previous hunting experience;

—Previous participation in a mentored hunt program;

—Interest in hunting;

—Family history of hunting;

—Whether applicant owns equipment and, if yes, type of equipment; and

—Medical conditions/allergies for program staff to be aware of in the event of an emergency.

The public may request copies of the application form contained in this information collection by sending a request to the Service Information Collection Clearance Officer in ADDRESSES, above.

Title of Collection: Lenape National Wildlife Refuge Complex Mentored Hunt Application.

OMB Control Number: 1018-New.

Form Number: None.

Type of Review: Existing collection in use without an OMB control number.

Respondents/Affected Public: Individuals/households.

Total Estimated Number of Annual Respondents: 25.

Total Estimated Number of Annual Responses: 25.

Estimated Completion Time per Response: 15 minutes.

Total Estimated Number of Annual Burden Hours: 6 hours (rounded).

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-02751 Filed 2-8-23; 8:45 am]

BILLING CODE 4333-15-P